DEPARTMENT OF AGRICULTURE

Forest Service

Notice of Sanders County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on May 13, 2005 at 1 p.m. in Trout Creek, Montana for a business meeting. The meeting is open to the public.

DATES: May 13, 2005.

ADDRESSES: The meeting will begin at Cabinet Station, 2693 Highway 200, Trout Creek, MT 59874.

FOR FURTHER INFORMATION CONTACT: Randy Hojem, Designated Forest Official (DFO), District Ranger, Plains Ranger District, (406) 826-3821.

SUPPLEMENTARY INFORMATION: Agenda topics include a field visit to view projects completed in the Bull River area using Title II funds. If the meeting time or location is changed, notice will be posted in the local newspapers, including the Clark Fork Valley Press, Sanders County Ledger, Daily Interlake, Missoulian, and River Journal.

Dated: April 27, 2005.
Randy Hojem,
Designated Federal Official, District Ranger, Plains Ranger District.

[FR Doc. 05-9242 Filed 5-9-05; 8:45 am]

BILLING CODE 3410-11-M